DEPARTMENT OF THE INTERIOR

Fish and Wildlife Service

Aquatic Nuisance Species Task Force Research Committee Meeting

AGENCY: Fish and Wildlife Service, Interior.

ACTION: Notice of meeting.

SUMMARY: This notice announces a meeting of the Aquatic Nuisance Species (ANS) Task Force Research Committee. This meeting is open to the pubic. The meeting topics are identified in the SUPPLEMENTARY INFORMATION section.

DATES: The Aquatic Nuisance Species Task Force Research Committee will meet from 9 a.m. to 1 p.m. on Tuesday, July 12, 2005. Minutes of the meeting will be available for public inspection during regular business hours, Monday through Friday.

ADDRESSES: The Aquatic Nuisance Species Task Force Research Committee meeting will be held at the National Oceanic and Atmospheric Administration, 1311-B East West Highway, Silver Spring, Maryland 20910. Minutes of the meeting will be maintained in the office of Chief, Division of Environmental Quality, U.S. Fish and Wildlife Service, Suite 322, 4401 North Fairfax Drive, Arlington, Virginia 22203-1622.

FOR FURTHER INFORMATION CONTACT: Dorn Carlson, Research Committee Chair, Associate Program Director for Aquatic Nuisance Species—National Sea Grant Office, by telephone at (301) 713-2435 or by email at Dorn.Carlson@noaa.gov.

SUPPLEMENTARY INFORMATION: Pursuant to section 10(a)(2) of the Federal Advisory Committee Act (5 U.S.C. App. I), this notice announces meetings of the Aquatic Nuisance Species Task Force. The Task Force was established by the Nonindigenous Aquatic Nuisance Prevention and Control Act of 1990.

The formation of the Research Committee is part of the implementation of the Aquatic Nuisance Species Task Force Strategic Plan for 2002-2007. The committee's responsibilities include: (a) Advising the Task Force on national research needs, long-term research goals and annual priorities; (b) facilitating Regional Panel research planning and prioritization; (c) facilitating information sharing and coordination of governmental and nongovernmental invasive species research; and (d) assuring that invasive species research does not itself result in the spread of invasive species. This will be the initial meeting of the Research Committee. After the committee meeting ends, the meeting space will be available for breakout discussions if needed until 5.

Topics to be covered during the ANS Task Force Research Committee meeting include: (a) the committee's roles and responsibilities under the Task Force; (b) the ground rules under which the committee will operate; (c) whether there are gaps in the current committee membership; (d) immediate actions for the committee; and (e) first steps towards completing a 2005 committee report and a 2006 committee action plan.

Dated: June 23, 2005.
Mamie Parker,
Co-Chair, Aquatic Nuisance Species Task Force, Assistant Director—Fisheries & Habitat Conservation.

[FR Doc. 05-13043 Filed 6-28-05; 1:26 pm]

BILLING CODE 4310-55-P